DEPARTMENT OF EDUCATION

Accrediting Agencies Currently Undergoing Review for Purposes of Recognition by the U.S. Secretary of Education; Update

AGENCY: Office of Postsecondary Education, Accreditation Group, U.S. Department of Education.

ACTION: Update to the call for written third-party comments.

SUMMARY: This notice is an update to the previous notice published in the Federal Register Vol 85, No. 103 on May 28, 2020 for members of the public on submitting written comments for accrediting agencies currently undergoing review for purposes of recognition by the U.S. Secretary of Education. The purpose of this notice is to correct the scope of recognition for the National Accrediting Commission of Career Arts and Sciences Inc.

FOR FURTHER INFORMATION CONTACT: Herman Bounds, Director, Accreditation Group, Office of Postsecondary Education, U.S. Department of Education, 400 Maryland Avenue SW, Room 270-01, Washington, DC 20202, telephone: (202) 453-7615, or email: herman.bounds@ed.gov.

SUPPLEMENTARY INFORMATION: This notice is an update to the previous notice published in the Federal Register at 85 FR 32031 on May 28, 2020. This request for written third-party comments concerning the performance of accrediting agencies under review by the Secretary of Education is required by section 496(n)(1)(A) of the Higher Education Act (HEA) of 1965, as amended, and pertains to the Winter 2021 meeting of the National Advisory Committee on Institutional Quality and Integrity (NACIQI). The meeting date and location have not been determined, but will be announced in a later Federal Register notice. In addition, a later Federal Register notice will describe how to register to provide oral comments at the meeting.

Agencies Under Review and Evaluation: The Department requests written comments from the public on the following accrediting agencies, which are currently undergoing review and evaluation by the Accreditation Group, and which will be reviewed at the Winter 2021 NACIQI meeting.

The agencies are listed by the type of application each has submitted. We have also indicated each agency's current scope of recognition. If any agency requests a change to its scope of recognition, we have identified both the current scope of recognition and the requested scope of recognition.

Applications for Renewal of Recognition

1. Association of Institutions of Jewish Studies. Scope of Recognition: The accreditation of postsecondary institutions of Jewish Studies within the United States exclusively offering educational programs leading to a certificate, associate degree, baccalaureate degree or their equivalent credential in Jewish Studies or Classical Torah Studies.

2. American Speech-Language-Hearing Association, Council on Academic Accreditation in Audiology and Speech-Language Pathology. Scope of Recognition: The accreditation and preaccreditation (Accreditation Candidate) throughout the United States of education programs in audiology and speech-language pathology leading to the first professional or clinical degree at the master's or doctoral level, and the accreditation of these programs offered via distance education.

3. American Board of Funeral Service Education, Committee on Accreditation. Scope of Recognition: The accreditation of institutions and programs within the United States awarding diplomas, associate degrees and bachelor's degrees in funeral service or mortuary science, including the accreditation of distance learning courses and programs offered by these programs and institutions.

4. Council on Naturopathic Medical Education. Scope of Recognition: The accreditation and preaccreditation throughout the United States of graduate-level, four-year naturopathic medical education programs leading to the Doctor of Naturopathic Medicine (NMD) or Doctor of Naturopathy (ND).

5. Commission on Massage Therapy Accreditation. Scope of Recognition: The accreditation of institutions and programs in the United States that award postsecondary certificates, postsecondary diplomas, academic Associate degrees and occupational Associate degrees, in the practice of massage therapy, bodywork, and aesthetics/esthetics and skin care.

6. Montessori Accreditation Council for Teacher Education. Scope of Recognition: The accreditation of Montessori teacher education institutions and programs throughout the United States, including those offered via distance education.

7. Midwifery Education Accreditation Council. Scope of Recognition: The accreditation and pre-accreditation throughout the United States of direct-entry midwifery educational institutions and programs conferring degrees and certificates, including the accreditation of such programs offered via distance education.

8. National Accrediting Commission of Career Arts and Sciences Inc. Corrected Scope of Recognition: The accreditation throughout the United States of postsecondary schools and departments of cosmetology arts and sciences and massage therapy.

Application for Granting of Academic (Masters and Doctoral) Degrees by Federal Agencies and Institutions

1. U.S. Army Command and General Staff College: Undergoing Substantive Change (Curriculum Change).

Submission of Written Comments Regarding a Specific Accrediting Agency Under Review

Written comments about the recognition of any of the accrediting listed above must be received by June 23, 2020 in the ThirdPartyComments@ed.gov mailbox and include the subject line “Written Comments: (agency name).” The email must include the name(s), title, organization/affiliation, mailing address, email address, and telephone number of the person(s) making the comment. Comments should be submitted as a Microsoft Word document or in a medium compatible with Microsoft Word (not a PDF file) that is attached to an electronic mail message (email) or provided in the body of an email message. Comments about an agency that has submitted a petition for initial recognition, renewal of recognition, or an expansion of scope must relate to the agency's compliance with the Criteria for the Recognition of Accrediting Agencies, which are available at http://www.ed.gov/admins/finaid/accred/index.html.

Only written materials submitted by the deadline to the email address listed in this notice, and in accordance with these instructions, become part of the official record concerning agencies scheduled for review and are considered by the Department and NACIQI in their deliberations.

Electronic Access to this Document: The official version of this document is the document published in the Federal Register. Free internet access to the official edition of the Federal Register and the Code of Federal Regulations is available via the Federal Digital System at: www.gpo.gov/fdsys. At this site you can view this document, as well as all other documents of the Department published in the Federal Register, in text or Adobe Portable Document Format (PDF). To use PDF, you must have Adobe Acrobat Reader, which is available free at the site. You may also access documents of the Department published in the Federal Register by using the article search feature at: www.federalregister.gov. Specifically, through the advanced search feature at this site, you can limit your search to documents published by the Department.

Authority: 20 U.S.C. 1011c.

Robert L. King,
Assistant Secretary for Postsecondary Education.

[FR Doc. 2020-12351 Filed 6-8-20; 8:45 am]

BILLING CODE P